DEPARTMENT OF THE INTERIOR

National Park Service

[NPS-WASO-NAGPRA-NPS0036674; PPWOCRADN0-PCU00RP14.R50000]

Notice of Inventory Completion Amendment: Kansas State University, Manhattan, KS

AGENCY: National Park Service, Interior.

ACTION: Notice; amendment.

SUMMARY: In accordance with the Native American Graves Protection and Repatriation Act (NAGPRA), Kansas State University has amended a Notice of Inventory Completion published in the Federal Register on September 11, 2006. This notice amends the minimum number of individuals.

DATES: Disposition of the human remains in this notice may occur on or after October 30, 2023.

ADDRESSES: Megan Williamson, Department of Sociology, Anthropology, and Social Work, Kansas State University, 204 Waters Hall, 1603 Old Claflin Place, Manhattan, KS 66506-4003, telephone (785) 532-6005, email mwillia1@ksu.edu.

SUPPLEMENTARY INFORMATION: This notice is published as part of the National Park Service's administrative responsibilities under NAGPRA. The determinations in this notice are the sole responsibility of Kansas State University. The National Park Service is not responsible for the determinations in this notice. Additional information on the amendments and determinations in this notice, including the results of consultation, can be found in the inventory or related records held by Kansas State University.

Amendment

This notice amends the determinations published in a Notice of Inventory Completion in the Federal Register (71 FR 53467-53468, September 11, 2006) by increasing the minimum number of individuals (MNI) listed in the previous notice from four to six. Disposition of the items in the original Notice of Inventory Completion has not occurred.

From site 14MP463, in McPherson County, KS, four individuals were removed (previously identified as two). No associated funerary objects are present.

Determinations (as Amended)

Pursuant to NAGPRA and its implementing regulations, and after consultation with the appropriate Indian Tribes, Kansas State University has determined that:

• The human remains represent the physical remains of six individuals of Native American ancestry.

• No relationship of shared group identity can be reasonably traced between the human remains and associated funerary objects and any Indian Tribe.

• The human remains and associated funerary objects were removed from the aboriginal land of the Wichita and Affiliated Tribes (Wichita, Keechi, Waco, & Tawakonie), Oklahoma.

Requests for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains in this notice to a requestor may occur on or after October 30, 2023. If competing requests for disposition are received, Kansas State University must determine the most appropriate requestor prior to disposition. Requests for joint disposition of the human remains are considered a single request and not competing requests. Kansas State University is responsible for sending a copy of this notice to the Indian Tribes identified in this notice.

Authority: Native American Graves Protection and Repatriation Act, 25 U.S.C. 3003, and the implementing regulations, 43 CFR 10.9, 10.11, and 10.13.

Dated: September 25, 2023.
Melanie O'Brien,
Manager, National NAGPRA Program.

[FR Doc. 2023-21389 Filed 9-28-23; 8:45 am]

BILLING CODE 4312-52-P